DEPARTMENT OF HEALTH AND HUMAN SERVICES

Centers for Disease Control and Prevention

[60Day-20-1215; Docket No. CDC-2020-0075]

Proposed Data Collection Submitted for Public Comment and Recommendations

AGENCY: Centers for Disease Control and Prevention (CDC), Department of Health and Human Services (HHS)

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Awardee Lead Profile Assessment (ALPA).” The ICR includes a survey to collect information to identify jurisdictional legal frameworks governing funded childhood lead poisoning prevention programs in the United States, and strategies for implementing childhood lead poisoning prevention activities in the United States.

DATES: CDC must receive written comments on or before September 18, 2020.

ADDRESSES: You may submit comments, identified by Docket No. CDC-2020-0075 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Awardee Lead Profile Assessment (ALPA) (OMB Control No. 0920-1215, Exp. 02/28/2021)—Revision—National Center for Environmental Health (NCEH), Centers for Disease Control and Prevention (CDC).

Background and Brief Description

The Centers for Disease Control and Prevention (CDC) is requesting Paperwork Reduction Act (PRA) clearance for a three-year revised information collection request (ICR) titled “Awardee Lead Profile Assessment (ALPA)” (OMB Control No. 0920-1215; expiration date of 02/28/2021). The goal of this ICR is to build on the CDC's existing childhood lead poisoning prevention program. Based on program successes over the past three years, CDC has made ALPA an annual reporting requirement for ongoing and new CDC Childhood Lead Poisoning Prevention Programs (CLPPPs), including the FY17 “Lead Poisoning Prevention—Childhood Lead Poisoning Prevention—financed partially by Prevention and Public Health Funds” (CDC-RFA-EH17-1701PPHF17); the FY18 “Childhood Lead Poisoning Prevention Projects, State and Local Childhood Lead Poisoning Prevention and Surveillance of Blood Lead Levels in Children” (CDC-RFA-EH18-1806); and the FY20 “Childhood Lead Poisoning Prevention and Surveillance of Blood Lead Levels in Children” (CDC-RFA-EH20-2001). This annual information collection will be used to (1) identify common characteristics of funded childhood lead poisoning prevention programs, and (2) inform guidance and resource development in support of the ultimate program goal, which is blood lead elimination in children.

The dissemination of these ALPA results will ensure that both funded and non-funded jurisdictions are able to (1) identify policies and other factors that support or hinder childhood lead poisoning prevention efforts; (2) understand what strategies are being used by funded public health agencies to implement childhood lead poisoning prevention activities; and (3) use this knowledge to develop and apply similar strategies to support the national agenda to eliminate childhood lead poisoning.

This program management information collection has been revised in several ways. Due to an increase in funding and program growth, CDC is requesting an increase in the number of respondents from 48 to a maximum of 61 recipients, defined as state and local governments, or their bona fide agents.

CDC will continue to use two data collection modes, a web survey and an email survey. We anticipate that most of the respondents (n = 60; 98 percent) will use the web survey. The estimates of the number and percentage of respondents by mode of data collection are based on previous data collections. In the past, respondents only used the email survey if they had technical difficulties with the web survey, which was rare. For this purpose, we estimate that only 2% (n = 1) of the respondents may need to submit an email survey. This represents a change in distribution from the 2018 estimates, which were initially assumed as 83.3% for the web survey and 16.7% for the email survey.

A redistribution by mode of collection will not affect the total time burden requested as the time per response is the same for either mode; however, the time to take the survey has increased from seven minutes in 2018 to 47 minutes per response due to a revision of the survey. This revised time estimate per response is based on pilot tests of the revised survey among nine respondents, and includes the time needed to review the ALPA Training Manual, which is a new addition in this revision ICR. Thus, CDC is requesting an increase in the total annual time burden from six hours in 2018 to 48 hours.

Estimated Annualized Burden Hours
Type of respondent | Form name | Number of respondents | Number of responses per respondent | Average burden per response (in hours) | Total burden hours
State or Local Governments (or their bona fide fiscal agents) | ALPA Web Survey | 60 | 1 | 47/60 | 47
| ALPA Email Survey | 1 | 1 | 47/60 | 1
Total |  |  |  |  | 48

Jeffrey M. Zirger,
Lead, Information Collection Review Office, Office of Scientific Integrity, Office of Science, Centers for Disease Control and Prevention.

[FR Doc. 2020-15660 Filed 7-17-20; 8:45 am]

BILLING CODE 4163-18-P